DEPARTMENT OF ENERGY

Federal Energy Regulatory Commission

Combined Notice of Filings

Take notice that the Commission has received the following Natural Gas Pipeline Rate and Refund Report filings:

Filings Instituting Proceedings

Docket Numbers: RP13-381-000.

Applicants: Gulf South Pipeline Company, LP.

Description: Gulf South Pipeline Company, LP submits tariff filing per 154.204: Devon 34694-44 Amendment to Neg Rate Agmt to be effective 12/18/2012.

Filed Date: 12/12/12.

Accession Number: 20121212-5024.

Comments Due: 5 p.m. ET 12/24/12.

Docket Numbers: RP13-382-000.

Applicants: Natural Gas Pipeline Company of America.

Description: Tenaska Amendment to be effective 12/12/2012.

Filed Date: 12/12/12.

Accession Number: 20121212-5043.

Comments Due: 5 p.m. ET 12/24/12.

Docket Numbers: RP13-383-000.

Applicants: Natural Gas Pipeline Company of America.

Description: Tenaska Amendment Filing to be effective 12/12/2012.

Filed Date: 12/12/12.

Accession Number: 20121212-5046.

Comments Due: 5 p.m. ET 12/24/12.

Docket Numbers: RP13-384-000.

Applicants: Questar Pipeline Company.

Description: Off-System Services Version 2.0.0 to be effective 1/12/2013.

Filed Date: 12/12/12.

Accession Number: 20121212-5095.

Comments Due: 5 p.m. ET 12/24/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-116-001.

Applicants: MIGC LLC.

Description: Revised NAESB v2.0 Compliance Filing to be effective 12/1/2012.

Filed Date: 12/12/12.

Accession Number: 20121212-5073.

Comments Due: 5 p.m. ET 12/24/12.

Docket Numbers: RP13-39-002.

Applicants: CenterPoint Energy—Mississippi River T.

Description: Compliance Filing to Amend and Finalize 10/31/12 NAESB Compliance Filing to be effective 12/1/2012.

Filed Date: 12/12/12.

Accession Number: 20121212-5092.

Comments Due: 5 p.m. ET 12/24/12.

Docket Numbers: RP13-1-001.

Applicants: KO Transmission Company.

Description: KO Transmission Company submits tariff filing per 154.203: Compliance Filing in Docket No. RP13-1 to be effective 12/1/2012.

Filed Date: 12/13/12.

Accession Number: 20121213-5019.

Comments Due: 5 p.m. ET 12/26/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 13, 2012.
Nathaniel J. Davis, Sr.
Deputy Secretary

[FR Doc. 2012-30706 Filed 12-20-12; 8:45 am]

BILLING CODE 6717-01-P